DEPARTMENT OF TRANSPORTATION

Federal Aviation Administration

14 CFR Part 39

[Docket No. FAA-2024-2138; Project Identifier MCAI-2024-00124-T; Amendment 39-22955; AD 2025-03-07]

RIN 2120-AA64

Airworthiness Directives; Airbus SAS Airplanes

AGENCY: Federal Aviation Administration (FAA), DOT.

ACTION: Final rule.

SUMMARY: The FAA is superseding Airworthiness Directive (AD) 2016-20-12, AD 2018-17-21, and AD 2019-14-04, which applied to certain Airbus SAS Model A318, A319, A320, and A321 series airplanes. AD 2019-14-04 required revising the existing maintenance or inspection program, as applicable, to incorporate new or more restrictive airworthiness limitations and terminated the provisions of AD 2018-17-21, which, in turn, terminated the provisions of AD 2016-20-12. This AD was prompted by the determination that new or more restrictive airworthiness limitations are necessary. This AD requires revising the existing maintenance or inspection program, as applicable, to incorporate new or more restrictive airworthiness limitations, as specified in a European Union Aviation Safety Agency (EASA) AD, which is incorporated by reference. The FAA is issuing this AD to address the unsafe condition on these products.

DATES: This AD is effective March 21, 2025.

The Director of the Federal Register approved the incorporation by reference of a certain publication listed in this AD as of March 21, 2025.

The Director of the Federal Register approved the incorporation by reference of a certain other publication listed in this AD as of August 29, 2019 (84 FR 35812, July 25, 2019).

ADDRESSES:

AD Docket: You may examine the AD docket at regulations.gov under Docket No. FAA-2024-2138; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material identified in this AD, contact EASA, Konrad-Adenauer-Ufer 3, 50668 Cologne, Germany; telephone +49 221 8999 000; email ADs@easa.europa.eu; website easa.europa.eu. You may find this material on the EASA website at ad.easa.europa.eu.

• For Airbus material identified in this AD, contact Airbus SAS, Airworthiness Office—EIAS, Rond-Point Emile Dewoitine No: 2, 31700 Blagnac Cedex, France; telephone +33 5 61 93 36 96; fax +33 5 61 93 44 51; email account.airworth-eas@airbus.com; website airbus.com.

• You may view this material at the FAA, Airworthiness Products Section, Operational Safety Branch, 2200 South 216th St., Des Moines, WA. For information on the availability of this material at the FAA, call 206-231-3195. It is also available at regulations.gov under Docket No. FAA-2024-2138.

FOR FURTHER INFORMATION CONTACT: Timothy Dowling, Aviation Safety Engineer, FAA, 2200 South 216th Street, Des Moines, WA 98198; phone: 206-231-3667; email: Timothy.P.Dowling@faa.gov.

SUPPLEMENTARY INFORMATION:

Background

The FAA issued a notice of proposed rulemaking (NPRM) to amend 14 CFR part 39 to supersede AD 2019-14-04, Amendment 39-19682 (84 FR 35812, July 25, 2019) (AD 2019-14-04). AD 2019-14-04 applied to certain Airbus SAS Model A318, A319, A320, and A321 series airplanes. AD 2019-14-04 required revising the existing maintenance or inspection program, as applicable, to incorporate new or more restrictive fuel airworthiness limitations. The FAA issued AD 2019-14-04 to address the potential of ignition sources inside fuel tanks, which, in combination with flammable fuel vapors, could result in a fuel tank explosion and consequent loss of the airplane.

AD 2019-14-04 specified that accomplishing the revision required by that AD terminates all requirements of AD 2018-17-21, Amendment 39-19375 (83 FR 44209, August 30, 2018) (AD 2018-17-21). AD 2018-17-21 specified that accomplishing the revision required by that AD terminates all requirements of AD 2016-20-12, Amendment 39-18678 (81 FR 72507, October 20, 2016) (AD 2016-20-12). This AD therefore supersedes AD 2016-20-12 and AD 2018-17-21 as those ADs have already been terminated.

The NPRM published in the Federal Register on September 10, 2024 (89 FR 73316). The NPRM was prompted by AD 2024-0047, dated February 19, 2024 (EASA AD 2024-0047) (also referred to as the MCAI), issued by EASA, which is the Technical Agent for the Member States of the European Union. The MCAI states that new or more restrictive airworthiness limitations have been developed.

In the NPRM, the FAA proposed to retain all of the requirements of AD 2019-14-04. The FAA also proposed to require revising the existing maintenance or inspection program, as applicable, to incorporate additional new or more restrictive airworthiness limitations, as specified in EASA AD 2024-0047. The FAA is issuing this AD to address the potential of ignition sources inside fuel tanks which, in combination with flammable fuel vapors, could result in a fuel tank explosion and consequent loss of the airplane.

You may examine the MCAI in the AD docket at regulations.gov under Docket No. FAA-2024-2138.

Discussion of Final Airworthiness Directive

Comments

The FAA received comments from a commenter who supported the NPRM without change.

The FAA received additional comments from United Airlines (United). The following presents the comments received on the NPRM and the FAA's response to each comment.

Request To Clarify Whether Later Approved Versions Require FAA Approval

United requested the FAA clarify whether future versions of Airbus A318/A319/A320/A321 Airworthiness Limitations Section (ALS), Part 5 may be incorporated [into their maintenance or inspection program] without requiring FAA approval for an alternative method of compliance (AMOC). United noted that EASA AD 2024-0047 states the use of later approved variations or revisions of Airbus A318/A319/A320/A321 Airworthiness Limitations Section (ALS), Part 5, Fuel Airworthiness Limitations (FAL), Revision 08, dated November 6, 2023, are acceptable for compliance with the requirements of EASA AD 2024-0047. United also noted Variation 8.1 of that document is released but not included in the proposed AD.

The FAA provides the following clarification: A later-approved revision of Airbus A318/A319/A320/A321 Airworthiness Limitations Section (ALS), Part 5, Fuel Airworthiness Limitations (FAL), Revision 08, dated November 6, 2023, is acceptable for compliance with the corresponding requirements of this AD without needing to obtain an AMOC from the FAA. A later-approved variation of that document is acceptable for compliance with the corresponding requirements of this AD for the tasks identified in the material referenced in EASA AD 2024-0047 only, without needing to obtain an AMOC. Therefore, this AD does not need to be revised to reference Variation 8.1 of the document.

Request To Clarify Whether a Certain AMOC Is Terminated

United requested the FAA clarify whether AMOC AIR-676-20-138 would be terminated by paragraph (l)(1)(iii) of the proposed AD, which states that AMOCs approved previously for AD 2019-14-04 are approved as AMOCs for the corresponding provisions of EASA AD 2024-0047 that are required by paragraph (i) of the proposed AD, except AMOCs that specify Airbus A318/A319/A320/A321 Airworthiness Limitation Section (ALS), Part 5, Revision 06, or Revision 07 are not approved as AMOCs for paragraph (i) of the proposed AD.

The FAA agrees to clarify. AMOC AIR-676-20-138 for AD 2019-14-04 was issued to allow the use of Airbus A318/A319/A320/A321 Airworthiness Limitation Section (ALS), Part 5, Revision 06, dated October 11, 2019, or “applicable future EASA approved exclusive revisions or revisions in combination with its applicable variations” for accomplishing the actions specified in paragraph (g) of AD 2019-14-04, which are retained in paragraph (g) of this AD. However, AMOC AIR-676-20-138 does not apply to the requirements specified in paragraph (i) of this AD because it allows the use of all later-approved revisions (including Revision 06 and Revision 07) of Airbus A318/A319/A320/A321 Airworthiness Limitation Section (ALS), Part 5, while this AD requires the incorporation of Revision 08 of that document.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, this AD is adopted as proposed in the NPRM. None of the changes will increase the economic burden on any operator.

Material Incorporated by Reference Under 1 CFR Part 51

EASA AD 2024-0047 specifies new or more restrictive airworthiness limitations for fuel airworthiness limitations items and critical design configuration control limitations (CDCCLs).

This AD also requires Airbus A318/A319/A320/A321 Airworthiness Limitations Section (ALS), Part 5, Fuel Airworthiness Limitations (FAL), Revision 05, dated June 13, 2018, which the Director of the Federal Register approved for incorporation by reference as of August 29, 2019 (84 FR 35812, July 25, 2019).

This material is reasonably available because the interested parties have access to it through their normal course of business or by the means identified in the ADDRESSES section.

Costs of Compliance

The FAA estimates that this AD affects 1,920 airplanes of U.S. registry. The FAA estimates the following costs to comply with this AD:

The FAA estimates the total cost per operator for the retained actions from AD 2019-14-04 to be $7,650 (90 work-hours × $85 per work-hour).

The FAA has determined that revising the existing maintenance or inspection program takes an average of 90 work-hours per operator, although the agency recognizes that this number may vary from operator to operator. Since operators incorporate maintenance or inspection program changes for their affected fleet(s), the FAA has determined that a per-operator estimate is more accurate than a per-airplane estimate.

The FAA estimates the total cost per operator for the new actions to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2016-20-12, Amendment 39-18678 (81 FR 72507, October 20, 2016); AD 2018-17-21, Amendment 39-19375 (83 FR 44209, August 30, 2018); and AD 2019-14-04, Amendment 39-19682 (84 FR 35812, July 25, 2019); and

b. Adding the following new AD:

2025-03-07 Airbus SAS: Amendment 39-22955; Docket No. FAA-2024-2138; Project Identifier MCAI-2024-00124-T.

(a) Effective Date

This airworthiness directive (AD) is effective March 21, 2025.

(b) Affected ADs

This AD replaces AD 2016-20-12, Amendment 39-18678 (81 FR 72507, October 20, 2016); AD 2018-17-21, Amendment 39-19375 (83 FR 44209, August 30, 2018); and AD 2019-14-04, Amendment 39-19682 (84 FR 35812, July 25, 2019) (AD 2019-14-04).

(c) Applicability

This AD applies to Airbus SAS airplanes identified in paragraphs (c)(1) through (4) of this AD, certificated in any category, with an original airworthiness certificate or original export certificate of airworthiness issued on or before November 6, 2023.

(1) Model A318-111, -112, -121, and -122 airplanes.

(2) Model A319-111, -112, -113, -114, -115, -131, -132, -133, -151N, -153N, and -171N airplanes.

(3) Model A320-211, -212, -214, -216, -231, -232, -233, -251N, -252N, -253N, -271N, -272N, and -273N airplanes.

(4) Model A321-111, -112, -131, -211, -212, -213, -231, -232, -251N, -251NX, -252N, -252NX, -253N, -253NX, -271N, -271NX, -272N, and -272NX airplanes.

(d) Subject

Air Transport Association (ATA) of America Code 05, Time Limits/Maintenance Checks.

(e) Unsafe Condition

This AD was prompted by a determination that new or more restrictive airworthiness limitations are necessary. The FAA is issuing this AD to address the potential of ignition sources inside fuel tanks, which, in combination with flammable fuel vapors, could result in a fuel tank explosion and consequent loss of the airplane.

(f) Compliance

Comply with this AD within the compliance times specified, unless already done.

(g) Retained Revision of the Existing Maintenance or Inspection Program, With No Changes

This paragraph restates the requirements of paragraph (g) of AD 2019-14-04, with no changes. For airplanes with an original airworthiness certificate or original export certificate of airworthiness issued on or before June 13, 2018: Within 90 days after August 29, 2019 (the effective date of AD 2019-14-04), revise the existing maintenance or inspection program, as applicable, to incorporate the information specified in Airbus A318/A319/A320/A321 Airworthiness Limitations Section (ALS), Part 5, Fuel Airworthiness Limitations (FAL), Revision 05, dated June 13, 2018. The initial compliance time for doing the tasks is at the time specified in Airbus A318/A319/A320/A321 Airworthiness Limitations Section (ALS), Part 5, Fuel Airworthiness Limitations (FAL), Revision 05, dated June 13, 2018, or within 90 days after August 29, 2019, whichever occurs later. Accomplishing the revision of the existing maintenance or inspection program required by paragraph (i) of this AD terminates the requirements of this paragraph.

(h) Retained Restrictions on Alternative Actions, Intervals, and Critical Design Configuration Control Limitations (CDCCLs), With a New Exception

This paragraph restates the requirements of paragraph (h) of AD 2019-14-04, with a new exception. Except as required by paragraph (i) of this AD, after the maintenance or inspection program has been revised as required by paragraph (g) of this AD, no alternative actions (e.g., inspections), intervals, or CDCCLs may be used unless the actions, intervals, and CDCCLs are approved as an alternative method of compliance in accordance with the procedures specified in paragraph (l)(1) of this AD.

(i) New Revision of the Existing Maintenance or Inspection Program

Except as specified in paragraph (j) of this AD: Comply with all required actions and compliance times specified in, and in accordance with, European Union Aviation Safety Agency (EASA) AD 2024-0047, dated February 19, 2024 (EASA AD 2024-0047). Accomplishing the revision of the existing maintenance or inspection program required by this paragraph terminates the requirements of paragraph (g) of this AD.

(j) Exceptions to EASA AD 2024-0047

(1) This AD does not adopt the requirements specified in paragraphs (1) and (2) of EASA AD 2024-0047.

(2) Paragraph (3) of EASA AD 2024-0047 specifies revising “the AMP” within 12 months after its effective date, but this AD requires revising the existing maintenance or inspection program, as applicable, within 90 days after the effective date of this AD.

(3) The initial compliance time for doing the tasks specified in paragraph (3) of EASA AD 2024-0047 is at the applicable “limitations” and “associated thresholds” as incorporated by the requirements of paragraph (3) of EASA AD 2024-0047, or within 90 days after the effective date of this AD, whichever occurs later.

(4) This AD does not adopt the provisions specified in paragraphs (4) and (5) of EASA AD 2024-0047.

(5) This AD does not adopt the “Remarks” section of EASA AD 2024-0047.

(k) New Provisions for Alternative Actions, Intervals, and CDCCLs

After the existing maintenance or inspection program has been revised as required by paragraph (i) of this AD, no alternative actions (e.g., inspections), intervals, and CDCCLs are allowed unless they are approved as specified in the provisions of the “Ref. Publications” section of EASA AD 2024-0047.

(l) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, send it to the attention of the person identified in paragraph (m) of this AD and email to: AMOC@faa.gov.

(i) Before using any approved AMOC, notify your appropriate principal inspector, or lacking a principal inspector, the manager of the responsible Flight Standards Office.

(ii) AMOCs approved for AD 2019-14-04 are approved as AMOCs for the corresponding provisions of paragraph (g) of this AD.

(iii) AMOCs approved previously for AD 2019-14-04 are approved as AMOCs for the corresponding provisions of EASA AD 2024-0047 that are required by paragraph (i) of this AD, except AMOCs that specify Airbus A318/A319/A320/A321 Airworthiness Limitation Section (ALS), Part 5, Revision 06, or Revision 07 are not approved as AMOCs for paragraph (i) of this AD.

(2) Contacting the Manufacturer: For any requirement in this AD to obtain instructions from a manufacturer, the instructions must be accomplished using a method approved by the Manager, AIR-520, Continued Operational Safety Branch, FAA; or EASA; or Airbus SAS's EASA Design Organization Approval (DOA). If approved by the DOA, the approval must include the DOA-authorized signature.

(m) Additional Information

For more information about this AD, contact Timothy Dowling, Aviation Safety Engineer, FAA, 2200 South 216th Street, Des Moines, WA 98198; phone: 206-231-3667; email: Timothy.P.Dowling@faa.gov.

(n) Material Incorporated by Reference

(1) The Director of the Federal Register approved the incorporation by reference (IBR) of the material listed in this paragraph under 5 U.S.C. 552(a) and 1 CFR part 51.

(2) You must use this material as applicable to do the actions required by this AD, unless this AD specifies otherwise.

(3) The following material was approved for IBR on March 21, 2025.

(i) European Union Aviation Safety Agency (EASA) AD 2024-0047, dated February 19, 2024.

(ii) [Reserved]

(4) The following material was approved for IBR on August 29, 2019 (84 FR 35812, July 25, 2019).

(i) Airbus A318/A319/A320/A321 Airworthiness Limitations Section (ALS), Part 5, Fuel Airworthiness Limitations (FAL), Revision 05, dated June 13, 2018.

(ii) [Reserved]

(5) For EASA material identified in this AD, contact EASA, Konrad-Adenauer-Ufer 3, 50668 Cologne, Germany; telephone +49 221 8999 000; email ADs@easa.europa.eu; website easa.europa.eu. You may find this material on the EASA website at ad.easa.europa.eu.

(6) For Airbus material identified in this AD, contact Airbus SAS, Airworthiness Office—EIAS, Rond-Point Emile Dewoitine No: 2, 31700 Blagnac Cedex, France; telephone +33 5 61 93 36 96; fax +33 5 61 93 44 51; email account.airworth-eas@airbus.com; website airbus.com.

(7) You may view this material at the FAA, Airworthiness Products Section, Operational Safety Branch, 2200 South 216th Street, Des Moines, WA. For information on the availability of this material at the FAA, call 206-231-3195.

(8) You may view this material at the National Archives and Records Administration (NARA). For information on the availability of this material at NARA, visit www.archives.gov/federal-register/cfr/ibr-locations or email fr.inspection@nara.gov.

Issued on February 4, 2025.
Peter A. White,
Deputy Director, Integrated Certificate Management Division, Aircraft Certification Service.

[FR Doc. 2025-02644 Filed 2-13-25; 8:45 am]

BILLING CODE 4910-13-P